NUCLEAR REGULATORY COMMISSION

[Docket No. 50-245]

Environmental Assessment and Finding of No Significant Impact Related to Exemption From the Recordkeeping Requirements of 10 CFR Part 50 for Dominion Nuclear Connecticut, Inc., License DPR-21, Millstone, Connecticut

AGENCY: U.S. Nuclear Regulatory Commission.

ACTION: Environmental Assessment and Finding of No Significant Impact.

FOR FURTHER INFORMATION CONTACT: John Hickman, Division of Waste Management and Environmental Protection, Office of Federal and State Materials and Environmental Management Programs, U.S. Nuclear Regulatory Commission, Mail Stop: T7E18, Washington, DC 20555-00001. Telephone: (301) 415-3017; e-mail: jbh@nrc.gov.

SUPPLEMENTARY INFORMATION:

I. Introduction

The U.S. Nuclear Regulatory Commission (NRC) is considering granting a partial exemption from the recordkeeping requirements of Title 10 of the Code of Federal Regulations (10 CFR) 50.59(d)(3); 10 CFR 50.71(c); 10 CFR part 50, Appendix A Criterion 1; and 10 CFR part 50, Appendix B Criterion XVII, for the Millstone Power Station, Unit 1 (Millstone Unit 1) as requested by Dominion Nuclear Connecticut (DNC or the Licensee) on June 8, 2006. An Environmental Assessment (EA) was performed by the NRC staff in support of its review of the exemption request.

II. Environmental Assessment

Background

Millstone Unit 1 was a single-cycle, boiling water reactor with a Mark I containment which was designed, furnished and constructed by General Electric Company as the prime contractor for the licensee. The General Electric Company engaged Ebasco Services Incorporated as the architect-engineer. Millstone Unit 1 had a reactor thermal output of 2011 megawatts and a net electrical output of 652.1 megawatts. The Millstone site is located in the town of Waterford, New London County, Connecticut, on the north shore of Long Island Sound.

Construction of Millstone Unit 1 was authorized by a provisional construction permit CPPR-20, on May 19, 1966, in AEC Docket 50-245. Millstone Unit 1 was completed and ready for fuel loading during October 1970. The plant went into commercial operation on December 28, 1970. On July 21, 1998, pursuant to 10 CFR 50.82(a)(1)(i) and 10 CFR 50.82(a)(1)(ii), the licensee certified to the NRC that, as of July 17, 1998, Millstone Unit No. 1 had permanently ceased operations and that fuel had been permanently removed from the reactor vessel. The issuance of this certification fundamentally changed the licensing basis of Millstone Unit 1 in that the NRC issued 10 CFR part 50 license no longer authorizes operation of the reactor or emplacement or retention of fuel in the reactor vessel.

Safety related structures, systems, and components (SSCs) and SSCs important to safety remaining at Millstone Unit 1 are associated with the spent fuel pool island where the Millstone Unit 1 spent fuel is stored. Other than non-essential systems supporting the balance of plant facilities, the remaining plant equipment has been de-energized, disabled and abandoned in place or removed from the unit and can no longer be used for power generation.

This EA has been developed in accordance with the requirements of 10 CFR 51.21.

Proposed Action

DNC is requesting an exemption from the record retention requirements of: (1) 10 CFR 50.59(d)(3), which requires certain records be maintained until “termination of a license issued pursuant to” Part 50; (2) 10 CFR 50.71(c) which requires that records required by the regulations, by license condition, or by technical specifications must be retained for the period specified by the appropriate regulation, license condition, or technical specification or if a retention period is not otherwise specified, these records must be retained until the Commission terminates the facility license; (3) 10 CFR Part 50 Appendix A Criterion 1, which requires certain records be retained “throughout the life of the unit”; and (4) 10 CFR Part 50 Appendix B Criterion XVll, which requires certain records be retained consistent with regulatory requirements for a duration established by the licensee.

DNC proposes to eliminate record retention requirements for Millstone Unit 1 SSCs associated with safe power generation that have been de-energized, disabled, and abandoned in place or removed from the unit. DNC is not requesting an exemption associated with record keeping requirements for storage of spent fuel in the Millstone Unit 1 spent fuel pool or for systems required to support the safe storage of spent fuel.

Need for Proposed Action

The requested exemption and application of the exemption will eliminate the requirement to maintain records that are no longer necessary due to the permanently shutdown status of the facility and thereby reduce the financial burden on ratepayers associated with the storage of a large volume of records.

Environmental Impacts of the Proposed Action

The proposed action is purely administrative in nature and will not significantly increase the probability or consequences of accidents. No changes are being made in the types of effluents that may be released off site and there is no significant increase in the amount of any effluent released offsite. There is no significant increase in occupational or public radiation exposure. Therefore, there are no significant radiological environmental impacts associated with the proposed action.

With regard to potential nonradiological impacts, the proposed action does not have a potential to affect any historic sites. It does not affect nonradiological plant effluents, and it has no other environmental impact. Therefore, there are no significant nonradiological environmental impacts associated with the proposed action.

Accordingly, the NRC concludes that the proposed action will have no significant effect on the environment.

Environmental Impacts of the Alternatives to the Proposed Action

As an alternative to the proposed action, the staff considered denial of the proposed action (i.e., the “no-action” alternative). Under this alternative DNC would continue to store the records in question until license termination which would result in no change in current environmental impacts. The environmental impacts of the proposed action and the alternative action are similar.

Agencies and Persons Consulted

None.

III. Finding of No Significant Impact

Based on this review, the NRC staff has concluded that there are no significant impacts on the quality of the human environment. Accordingly, the staff has determined that preparation of an Environmental Impact Statement is not warranted, and a Finding of No Significant Impact is appropriate.

IV. Further Information

For further details with respect to the proposed action, see the licensee's letter dated June 8, 2006, (ADAMS Accession No. ML061590490). The NRC Public Documents Room is located at NRC Headquarters in Rockville, MD, and can be contacted at (800) 397-4209. Documents may be examined, and/or copied for a fee, at the NRC's Public Document Room (PDR), located at One White Flint North, 11555 Rockville Pike (first floor), Rockville, Maryland. Publicly available records will be accessible electronically from the Agencywide Documents Access and Management System's (ADAMS) Public Library component on the NRC Web site, http://www.nrc.gov (the Public Electronic Reading Room). Persons who do not have access to ADAMS or who encounter problems in accessing the documents located in ADAMS should contact the NRC PDR Reference staff by telephone at 1-800-397-4209, or 301-415-4737, or by e-mail at pdr@nrc.gov.

Dated at Rockville, Maryland, this 19th day of January, 2007.
For the Nuclear Regulatory Commission.
Keith I. McConnell,
Deputy Director, Decommissioning and Uranium Recovery, Licensing Directorate, Division of Waste Management and Environmental Protection, Office of Federal and State Materials and Environmental Management Programs.

[FR Doc. E7-1345 Filed 1-26-07; 8:45 am]

BILLING CODE 7590-01-P